DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 4, 2008.

Interested persons are invited to submit written comments regarding the subject matter of the investigations to the Director, Division of Trade Adjustment Assistance, at the address shown below, not later than February 4, 2008.

The petitions filed in this case are available for inspection at the Office of the Director, Division of Trade Adjustment Assistance, Employment and Training Administration, U.S. Department of Labor, Room C-5311, 200 Constitution Avenue, NW., Washington, DC 20210.

Signed at Washington, DC, this 18th day of January 2008.
Ralph DiBattista,
Director, Division of Trade Adjustment Assistance.

Appendix
[TAA Petitions instituted between 1/7/08 and 1/11/08]
TA-W | Subject firm (petitioners) | Location | Date of institution | Date of petition
62637 | Arcelor Mittal USA Weirton, Inc. (formerly Mittal ISG Weirton) (Wkrs) | Weirton, WV | 01/07/08 | 01/02/08
62638 | Thomasville Furniture Industries (Comp) | Thomasville, NC | 01/07/08 | 01/03/08
62639 | Bombardier Transportation (Wkrs) | Pittsburgh, PA | 01/07/08 | 12/31/07
62640 | Parker Hannifin Corporation (Comp) | Wilson, NC | 01/07/08 | 01/04/08
62641 | Hitachi Global Storage Technologies, Inc. (Wkrs) | San Jose, CA | 01/07/08 | 12/18/07
62642 | North State Industries (State) | Nevis, MN | 01/07/08 | 01/04/08
62643 | Tri Source Inc (Comp) | Shelton, CT | 01/08/08 | 01/05/08
62644 | DC Safety (Comp) | Hauppauge, NY | 01/08/08 | 01/04/08
62645 | Spotless Enterprises Inc. (Comp) | Asheville, NC | 01/08/08 | 01/07/08
62646 | Pfizer Company (Wkrs) | Portage, MI | 01/09/08 | 01/07/08
62647 | Honeywell (Union) | Greenville, OH | 01/09/08 | 01/08/08
62648 | Trio Manufacturing Company (Comp) | Forsyth, GA | 01/09/08 | 01/08/08
62649 | A&R Machine Company, Inc. (Comp) | East Sparta, OH | 01/09/08 | 12/14/07
62650 | Crane Vitreous China Plant (Comp) | Hondo, TX | 01/09/08 | 12/13/07
62651 | Alcoa (State) | Frederick, MD | 01/09/08 | 01/08/08
62652 | The Quill Company, Inc. (Comp) | Cranston, RI | 01/09/08 | 01/07/08
62653 | RF Micro Devices (State) | Broomfield, CO | 01/09/08 | 01/07/08
62654 | Leggett and Platt/Design Fabricators (Comp) | Thornton, CO | 01/09/08 | 01/04/08
62655 | Warp Processing Inc. (Wkrs) | Exeter, PA | 01/10/08 | 01/09/08
62656 | Saint Gobain Abrasives (Comp) | Littleton, NH | 01/10/08 | 01/09/08
62657 | Plum Creek Evergreen Sawmill and Reman (Comp) | Kalispell, MT | 01/10/08 | 01/09/08
62658 | Milwaukee Electric Tool Corporation (Comp) | Jackson, MS | 01/10/08 | 01/09/08
62659 | Richloom Home Fashions (Wkrs) | Clinton, SC | 01/10/08 | 01/07/08
62660 | Interface Inc. (Wkrs) | Elkin, NC | 01/10/08 | 01/04/08
62661 | Agilent Technologies (Comp) | Loveland, CO | 01/11/08 | 01/10/08
62662 | Pentair Electronic Packaging (Comp) | Des Plaines, IL | 01/11/08 | 01/09/08
62663 | C and D Technologies (Rep) | Conyers, GA | 01/11/08 | 01/09/08
62664 | Catawba Valley Finishing, LLC (Wkrs) | Newton, NC | 01/11/08 | 01/10/08
62665 | Chemcraft Systems, LLC (Comp) | Cullman, AL | 01/11/08 | 01/10/08
62666 | Wentworth Corporation (Comp) | Madison, NC | 01/11/08 | 01/10/08
62667 | Gold Toe Moretz, LLC (Comp) | Burlington, NC | 01/11/08 | 01/09/08
62668 | Conrad Forest Products (Comp) | North Bend, OR | 01/11/08 | 01/10/08

[FR Doc. E8-1281 Filed 1-24-08; 8:45 am]

BILLING CODE 4510-FN-P